ENVIRONMENTAL PROTECTION AGENCY

40 CFR Part 300

[FRL-7224-7]

National Oil and Hazardous Substances Pollution Contingency Plan; National Priorities List

AGENCY: Environmental Protection Agency.

ACTION: Notice of intent for partial deletion of the Facility Area portion of the A.O. Polymer Site from the National Priorities List.

SUMMARY: The Environmental Protection Agency (EPA) Region II announces its intent to delete the Facility Area portion of the A.O. Polymer Site (Site) located in Sussex County, New Jersey, from the National Priorities List (NPL) and requests public comment on this action. The NPL constitutes Appendix B to the National Oil and Hazardous Substances Pollution Contingency Plan (NCP), 40 CFR Part 300, which EPA promulgated pursuant to Section 105 of the Comprehensive Environmental Response, Compensation, and Liability Act (CERCLA). EPA and the State of New Jersey (State), through the Department of Environmental Protection, have determined that all appropriate response actions relating to the Facility Area portion of the Site have been implemented. This partial deletion pertains only to the Facility Area portion of the Site and does not include the other portions of the Site.

The purpose of the proposed deletion of the Facility Area is to remove remediated and potentially useful property from the NPL, thereby making the land available for beneficial reuse.

EPA compiled Facility Area EPA documents, such as soil sample results and locations, maps, Pollution Reports, and other relevant deletion documentation, which EPA used in its determination to propose the Facility Area for deletion from the NPL. These Site files can be reviewed in the repositories listed below.

DATES: EPA will accept comments concerning its proposal for partial deletion for thirty (30) days after publication of this document in the Federal Register and a local newspaper of record.

ADDRESSES: Comments may be mailed to: Jeff M. Catanzarita, Remedial Project Manager, EPA, Region II, 290 Broadway, 19th Floor, New York, New York 10007-1866.

Information Repositories: Comprehensive information on the Site, as well as information specific to this proposed partial deletion is available for review at EPA's Region II office in New York, New York, and at the information repository listed below. The Site file and the Deletion Docket for this partial deletion are maintained at the EPA Records Center, 290 Broadway, 18th Floor, New York, New York 10007-1866. The Records Center hours of operation are 9-5 p.m., Monday through Friday, and the Records Center staff can be reached at (212) 637-4308.

EPA has established a local information repository at the Sparta Public Library, 22 Woodport Road, Sparta, New Jersey 07871, where the Deletion Docket is available for public review.

FOR FURTHER INFORMATION CONTACT: Jeff M. Catanzarita (212) 637-4409, fax No. (212)-637-4429; e-mail catanzarita.jeff@epa.gov.

SUPPLEMENTARY INFORMATION:

Table of Contents

I. Introduction

II. NPL Deletion Criteria

III. Deletion Procedures

IV. Basis for Intended Partial Site Deletion

I. Introduction

The U. S. Environmental Protection Agency (EPA) Region II announces its intent to delete a portion of the A.O. Polymer Site (Site), located in Sussex County, New Jersey, from the National Priorities List (NPL) and requests comment on this proposal. The NPL constitutes Appendix B to the National Oil and Hazardous Substances Pollution Contingency Plan (NCP), 40 CFR Part 300, which EPA promulgated pursuant to Section 105 of the Comprehensive Environmental Response, Compensation, and Liability Act (CERCLA), as amended. This partial deletion of the Site is proposed in accordance with 40 CFR 300.425(e) and the Notice of Policy Change: Partial Deletion of Sites Listed on the National Priorities List 60 FR 55466 (Nov. 1, 1995). The Site has two land portions, hereafter referred to as the Facility Area and the Disposal Area. This proposal for partial deletion only pertains to the 3.76-acre Facility Area of the Site. The 0.42-acre Disposal Area and the contaminated groundwater will remain on the NPL.

The Site is an inactive facility located at 44 Station Road in the Township of Sparta, Sussex County, New Jersey. The Site occupies 4.18 acres near the Sparta Rail Road Station along the New York, Susquehanna and Western (NYS&W) Railway. The Site is bounded to the north and east by Station Park, a municipal recreation area, to the southeast by Station Road, and to the south and west by the NYS&W Railway. The Site is located on two lots delineated by a Sussex County tax map as Block 19, Lot 45-B (3.22 acres) and Lot 45-C (0.96 acres).

The proposal for partial deletion pertains to both lots except for a portion of Lot 45-B, which is the Disposal Area and is described in Section IV, Basis for Intended Partial Site Deletion. The Disposal Area is located in the northwest corner of the property, separated from other areas by a dirt road.

No further action is necessary to protect human health, welfare, and the environment in relation to the Facility Area portion of the Site and, therefore, EPA proposes to delete the Facility Area because all appropriate CERCLA response activities have been completed. However, ongoing soil cleanup activities at the Disposal Area and the groundwater are not complete, and the Disposal Area and groundwater will remain on the NPL and are not subject to this partial deletion.

The NPL is a list maintained by EPA of sites that EPA has determined present a significant risk to human health, welfare, or the environment. Sites on the NPL may be the subject of remedial actions financed by the Hazardous Substance Superfund (“the Fund”). Pursuant to 40 CFR 300.425(e) of the NCP, any site or portion of a site deleted from the NPL remains eligible for Fund-financed remedial actions if conditions at the site warrant such action.

EPA will accept comments concerning its intent for partial deletion for thirty (30) days after publication of this notice in the Federal Register and a local newspaper of record.

II. NPL Deletion Criteria

The NCP establishes the criteria that EPA uses to delete sites from the NPL. In accordance with 40 CFR Sec. 300.425(e), sites may be deleted from the NPL where no further response is appropriate to protect human health or the environment. In making such a determination, EPA, in consultation with the State, will consider whether any of the following criteria have been met:

Section 300.425(e)(1)(i). Responsible parties or other persons have implemented all appropriate response actions required; or

Section 300.425(e)(1)(ii). All appropriate Fund-financed response under CERCLA has been implemented, and no further response action by responsible parties is appropriate; or

Section 300.425(e)(1)(iii). The remedial investigation has shown that the release poses no significant threat to public health or the environment and, therefore, taking of remedial measures is not appropriate.

Deletion of a portion of a site from the NPL does not preclude eligibility for subsequent Fund-financed actions at the area deleted if future site conditions warrant such actions. Section 300.425(e)(3) of the NCP provides that Fund-financed actions may be taken at sites that have been deleted from the NPL. A partial deletion of a site from the NPL does not affect or impede EPA's ability to conduct CERCLA response activities at areas not deleted and remaining on the NPL. In addition, deletion of a portion of a site from the NPL does not affect the liability of responsible parties or impede agency efforts to recover costs associated with response efforts.

Deletion of a portion of a site from the NPL does not itself create, alter, or revoke any person's rights or obligations. The NPL is designed primarily for informational purposes and to assist Agency management.

III. Deletion Procedures

The following procedures were used for the proposed deletion of the Facility Area at the Site:

(1) From 1993 to 1997, EPA's Removal Action Branch conducted removal activities at the Facility Area, which included confirmatory soil sampling. Sampling results found contaminant levels below the New Jersey Residential Soil Cleanup Criteria and, therefore, the Facility Area is available for unrestricted use.

(2) EPA has recommended the partial deletion and has prepared the relevant documents.

(3) The State through the NJDEP concurs with this partial deletion in a letter dated February 20, 2002.

(4) Concurrent with this national Notice of Intent for Partial Deletion, a notice has been published in a local newspaper of record and has been distributed to appropriate federal, state, and local officials, and other interested parties. These notices announce a thirty (30) day public comment period on the deletion package, which commences on the date of publication of this notice in the Federal Register and a local newspaper of record.

(5) EPA has made all relevant documents available at the information repositories listed previously.

This Federal Register notice, and a concurrent notice in a local newspaper of record, announce the initiation of a thirty (30) day public comment period and the availability of the Notice of Intent for Partial Deletion. The public is asked to comment on EPA's proposal to delete the Facility Area portion of the Site from the NPL. All critical documents needed to evaluate EPA's decision are included in the Deletion Docket and are available for review at the EPA Region II information repositories.

Upon completion of the thirty (30) day public comment period, EPA will evaluate all comments received before issuing the final decision on the partial deletion. If appropriate, EPA will prepare a Responsiveness Summary for comments received during the public comment period and will address concerns presented in the comments. The Responsiveness Summary will be made available to the public at the information repositories listed previously. If, after review of all public comments, EPA determines that the partial deletion from the NPL is appropriate, EPA will publish a final Notice of Partial Deletion in the Federal Register. Deletion of the Facility Area does not actually occur until the final Notice of Partial Deletion is published in the Federal Register.

IV. Basis for Intended Partial Site Deletion

The following provides EPA's rationale for deletion of the Facility Area of the Site from the NPL and EPA's finding that the criteria in 40 CFR 300.425(e) are satisfied.

Background

The Site is located at 44 Station Road in the Township of Sparta, Sussex County, New Jersey. From the early 1960s until 1978, the Site was the location of two businesses: Mohawk Industries (Mohawk), which operated a resins manufacturing and solvent reclamation facility; and later A.O. Polymer Corporation (A.O. Polymer), which continued the resins manufacturing processes of Mohawk. The activities of these companies contaminated the soil and groundwater at the Site.

The Site occupies approximately 4 acres near the Sparta Rail Road Station along the New York, Susquehanna and Western (NYS&W) Railway and is situated in a semi-rural area near the Wallkill River. The Site is divided into two distinct areas, the Disposal Area and the Facility Area.

In 1978, the facility was purchased by A.O. Corporation, the parent corporation of A.O. Polymer. A.O. Polymer purchased the rights to manufacture resins products previously produced by Mohawk. A.O. Polymer continued to utilize the same processing machinery, storage vessels, and laboratories used by Mohawk. For approximately one year in 1978, A.O. Polymer also continued Mohawk's solvent reclamation process.

Until 1994, A.O. Polymer continued to use the Facility Area for resins manufacturing operations. The Facility Area structures present at the Site include office and laboratory facilities, a main reactor building, assorted storage buildings, numerous storage tanks, and a non-contact water cooling pond. These structures remain on the Facility Area but are no longer used.

Complaints of odors emanating from well water and air near the Site were first registered by citizens living or working near the Site in 1973. Complaints of odors and bad smelling well water intensified in 1978, touching off formal investigations by the Sparta Health Department and the NJDEP. In December 1978, NJDEP inspectors and Sparta Health Department officials collected samples from potable wells surrounding the Site. Analysis of these samples revealed the existence of Volatile Organic Compounds (VOCs) in three domestic wells located along Station Road. In June 1979, the owners of the three affected wells filed damage claims with the New Jersey Hazardous Spill Fund, and in January 1980, these homes were connected to a municipal water supply.

In 1978, NJDEP began investigating reports of drum stockpiling at the Site. These investigations identified on-site waste disposal and storage practices as the source of groundwater contamination in residential wells. Waste handling practices included disposal of liquid chemical waste into unlined lagoons, improper storage of over 800 deteriorating drums, and burial of crushed and open drums containing waste materials including volatile and semi-volatile organic compounds.

In 1980 and 1981, surficial cleanup at the Site was initiated by NJDEP, including the removal of surface drums and the excavation and removal of contaminated soil located in the unlined lagoon area (i.e., the Disposal Area). The Disposal Area of the Site was reportedly excavated to a depth of approximately 10 feet and backfilled with clean soil. This cleanup resulted in the removal of 1,150 drums; 1,700 cubic yards of contaminated soil; and 120 cubic yards of crushed drums and debris.

Concern regarding the extent of groundwater contamination resulted in additional investigations by NJDEP. In January 1982, NJDEP's Division of Water Resources installed 11 monitoring wells on and adjacent to the Site to determine the extent of groundwater contamination. Sampling confirmed that contamination had reached the Allentown formation, which is a source of potable water in the area. Sampling also revealed that groundwater contamination had migrated to Station Park, 300 yards northeast of the Site.

On September 1, 1983, the Site was placed on the NPL.

Complaints of odors emanating from the Site continued throughout the 1980s. In response to repeated complaints from residents in the area, the NJDEP Division of Environmental Quality cited and fined the A.O. Polymer facility for air emission violations.

In 1984, a Remedial Investigation and Feasibility Study (RI/FS) was performed by NJDEP and funded by EPA through a Cooperative Agreement with NJDEP. During the RI, the Disposal Area was sampled. Soil samples taken from this area of the Site and compared with other soil samples taken from other portions of the Site led to the conclusion that the soil ten to twenty feet beneath the Disposal Area contained residual VOC contamination that acted as a source of contamination to the groundwater.

After initial indications of groundwater contamination were confirmed, NJDEP installed a network of 18 additional monitoring wells during the RI/FS. These 18 monitoring wells were installed in and around the Site to characterize the nature and extent of groundwater contamination. The RI/FS report confirmed that the source of groundwater contamination was located in Disposal Area soil and the groundwater contamination threatened a drinking water aquifer. This contaminated soil area takes up approximately 0.42 acre of the Site and is bounded to the northwest and southwest by the Gun Club access road and to the northeast and southeast by a steep embankment that adjoins the park property.

The area of groundwater contamination is approximately 1,000 feet long and 900 feet wide and extends from the Site to the Wallkill River. The majority of the groundwater contamination is located beneath Station Park.

On June 28, 1991, EPA and NJDEP completed the RI/FS and issued a Record of Decision (ROD), which selected a remedy to address contaminated soil at the Disposal Area and groundwater under both areas and extending off the Site. EPA selected Soil Vapor Extraction (SVE) to treat the source of the groundwater contamination (i.e., Disposal Area soil) and a groundwater extraction and treatment system to remediate the groundwater contamination.

After the ROD was signed, EPA became the lead agency in charge of response activities at the Site. EPA identified Potentially Responsible Parties (PRPs) and issued a Unilateral Administrative Order to conduct the Remedial Design and Remedial Action (RD/RA). Design of the SVE system started on April 2, 1992. Both the SVE and groundwater extraction waste streams are run through treatment plants located on property adjacent to the A.O. Polymer property designated in the county tax records as Lot 45-A. By October 1994, construction of the SVE system was completed and the system was operational and functional in January of 1995. Through February 2002, the SVE system has removed over 5,205 gallons of VOCs from contaminated soil.

The groundwater treatment component of the selected remedy consisted of pumping the contaminated groundwater from the aquifer, treating it with a Powdered Activated Carbon Treatment (PACT) system and then returning the treated groundwater to the aquifer. Treatability studies conducted on the PACT system showed that this treatment system could not meet the discharge limitations; therefore, an Explanation of Significant Differences (ESD), issued on September 17, 1996, called for modifying the ROD to allow the use of an air stripper to remove contaminants from groundwater, so that the contingent surface water discharge point, outlined in the ROD, could be implemented instead of using groundwater re-injection. In addition, the ESD called for only the most contaminated part of the plume to be treated via the extraction and treatment system, thereby allowing the remaining low level contaminant concentrations to naturally attenuate. Construction of the groundwater pump and treatment system was completed on March 26, 1998. On April 30, 1998, the NJDEP approved a Classification Exception Area (CEA) and a Well Restriction Area, dated April 8, 1998, for a portion of the Site, which are included in the Deletion Docket. The CEA was established in accordance with N.J.A.C. 7:9-6.6, because constituent groundwater quality standards are not being met at this Site due to pollution caused by human activity. The Well Restriction Area was established to preclude withdrawal of the contaminated groundwater associated with this Site, except for the purposes of monitoring and/or additional treatment at another time. Through February 2002, the groundwater treatment system has removed over 1,414 gallons of VOCs from contaminated groundwater. During the remedial design, it was estimated that the implemented remedy would take about 13 years to achieve groundwater cleanup goals (i.e., Maximum Contaminant Levels [MCLs]) in down-gradient compliance monitoring wells. However, the goal of the groundwater component of the remedy is to achieve the cleanup goals in all monitoring wells, and additional treatment beyond 13 years may be required. The SVE system only treats the source of the groundwater contamination in soils, and it is likely that the SVE system could be turned off within the next five years.

Facility Area Response Actions

The 3.76-acre Facility Area contains structures, such as office and laboratory facilities, a main reactor building, assorted storage buildings, numerous storage tanks, and a non-contact water cooling pond.

In early 1994, production activities at the facility ceased and the Site operator left hazardous material improperly stored and unsecured on the Facility Area of the Site. In response to requests from the Township of Sparta Health Department, EPA initiated a removal action at the recently abandoned facility on April 27, 1994. Additional soil samples and waste samples were collected at the Facility Area during the removal action. Sample results indicated that hazardous substances contained in drums and tanks found at the Site were being released to the environment. EPA removal activities included removal of hazardous materials from the laboratory building, storage building, reactor building, some above-ground piping and tanks, as well as an underground storage tank.

During EPA's removal activities, 121 cubic yards of soil, 91 cubic yards of asbestos-containing materials, 34,000 pounds of hazardous waste, 37,600 pounds of non-hazardous waste, and 3,491 gallons of bulked hazardous liquids were removed from the Site.

After removal activities were completed, EPA collected confirmatory soil samples to determine if any remaining areas of the Site were in need of remediation. An analysis of earlier RI/FS soil samples and the post-removal action soil samples taken on the Facility Area indicated that soil on the Facility Area does not exceed New Jersey Residential Direct Contact Soil Cleanup Criteria.

On August 18, 1998, EPA removal activities were concluded. EPA bases its proposal to delete the Facility Area at the A.O. Polymer Site on the determination by EPA and the NJDEP, that all appropriate actions under CERCLA have been completed to protect human health, welfare, and the environment related to the Facility Area portion of the Site.

EPA compiled Facility Area documents, such as soil sample results and locations, maps, Pollution Reports, and other relevant deletion documentation, which EPA used in its determination to propose the Facility Area for deletion from the NPL. These Site files can be reviewed in the repositories listed above.

All of EPA's response actions at the Facility Area were conducted using funds from the Hazardous Substance Superfund.

The Site boundaries are delineated by a Location Survey Map, dated June 29, 1998, which demarcated the entire Site. The Site is mapped out according to Sparta, New Jersey tax records as: Block 19, Lot 45-B (3.22 acres), and Block 19, Lot 45-C (0.96 acres). The Disposal Area is located on the northern side of Lot 45-B and is separated from the Facility Area by a dirt road. The Facility Area is all of Lot 45-C and the majority of Lot 45-B, minus the Disposal Area. The 3.76-acre Facility Area is bounded on the west by the New York, Susquehanna and Western Railroad property, to the north by the Disposal Area, on the east by a Township park and to the south by commercial property.

EPA demarcates the Facility Area portion of the Site as follows: all of Block 19, Lot 45-C and all of Block 19, Lot 45-B, except, the 0.42-acre Disposal Area located within Block 19, Lot 45-B. EPA delineates the 0.42-acre Disposal Area portion by the following Easting and Northing coordinates: point A (2,009,826.645: 806,913.161) ; to point B (2,010,049.344: 806,913.161); to point F (2,010,052.240: 806,758.795); to point G (2,009,880.808: 806,726.615); to point H (2,009,856.230: 806,760.672); and back to point A. The area within the above referenced Easting and Northing coordinates represents the area that shall remain on the NPL (i.e., the Disposal Area). This proposal for partial deletion pertains only to the above-described Facility Area of the Site. The Disposal Area described in the above Easting and Northing coordinates will remain on the NPL along with the groundwater cleanup.

Community Relations Activities

Initial community interest was high, related to fears about contaminated drinking water and odors emanating from the Site. Since the 1991 ROD was issued, the community concern with the Site has been minimal. EPA did not hold a public meeting for the Facility Area removal action.

The community and Sparta Township officials expressed a desire to possibly redevelop the Facility Area property. Any future developer or owner of the Facility Area property should be aware that EPA, the State, and the PRP conducting the cleanup will need access to the Facility Area for the duration of the ongoing response action at the Site.

Current Status

Based on the successful completion of EPA's removal action and the extensive investigations and sampling performed on the Facility Area of the Site, there are no further response actions planned or scheduled for the Facility Area of the Site. There are no further cleanup activities, except periodical groundwater monitoring, necessary at the Facility Area. Pursuant to the NCP, a five-year review is not required at the Facility Area portion of the Site. However, since five-year reviews are needed at other portions of the Site, five-year reviews will be performed. The selected remedy is ongoing at the Disposal Area and will continue for an estimated 13 years.

While EPA does not believe that any future response actions at the Facility Area of the Site will be needed, if future conditions warrant such action, the Facility Area potion of the Site will remain eligible for future Fund-financed response actions. Furthermore, this partial deletion does not alter the status of the Disposal Area of the Site and the groundwater, which are not proposed for deletion and remain on the NPL.

In a letter dated February 20, 2002, the State, through the NJDEP, has concurred on EPA's final determination regarding the proposed partial deletion.

EPA and NJDEP have determined that the Facility Area portion of the Site does not pose a significant threat to human health, welfare, or the environment and that all appropriate response actions have been completed at the Facility Area portion. Therefore, EPA makes this proposal to delete the Facility Area portion from the NPL.

Dated: June 7, 2002.
Jane M. Kenny,
Regional Administrator, Environmental Protection Agency, Region II.

[FR Doc. 02-15455 Filed 6-19-02; 8:45 am]

BILLING CODE 6560-50-P